DEPARTMENT OF COMMERCE

Foreign-Trade Zones Board

[Order No. 1669]

Approval for Manufacturing Authority, Foreign-Trade Zone 7, CooperVision Caribbean Corporation (Contact Lenses), Juana Diaz, Puerto Rico

Pursuant to its authority under the Foreign-Trade Zones Act of June 18, 1934, as amended (19 U.S.C. 81a-81u), the Foreign-Trade Zones Board (the Board) adopts the following Order:

Whereas, the Puerto Rico Industrial Development Company, grantee of Foreign-Trade Zone 7, has requested manufacturing authority on behalf of CooperVision Caribbean Corporation, within FTZ 7 in Juana Diaz, Puerto Rico (FTZ Docket 24-2009, filed 6-26-2009);

Whereas, notice inviting public comment has been given in the Federal Register (74 FR 31912, 7-6-2009) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application for manufacturing authority under zone procedures within FTZ 7 on behalf of CooperVision Caribbean Corporation, as described in the application and Federal Register notice, is approved, subject to the FTZ Act and the Board's regulations, including Section 400.28.

Signed at Washington, DC, this 12th day of March 2010.

Ronald K. Lorentzen,
Deputy Assistant Secretary for Import Administration, Alternate Chairman, Foreign-Trade Zones Board.
Attest:
Andrew McGilvray,
Executive Secretary.

[FR Doc. 2010-6501 Filed 3-23-10; 8:45 am]

BILLING CODE 3510-DS-S